ENVIRONMENTAL PROTECTION AGENCY

[EPA-HQ-OARM-2018-0028; FRL-10022-31-OMS]

Proposed Information Collection Request; Contractor Conflicts of Interest (Renewal)

AGENCY: Environmental Protection Agency (EPA).

ACTION: Notice.

SUMMARY: The Environmental Protection Agency (EPA) is planning to submit an information collection request (ICR), “Contractor Conflicts of Interest” (EPA ICR No. 1550.12, OMB Control No. 2030-0023) to the Office of Management and Budget (OMB) for review and approval in accordance with the Paperwork Reduction Act (PRA). Before doing so, EPA is soliciting public comments on specific aspects of the proposed information collection as described below. This is a proposed renewal of the ICR, which is currently approved through December 31, 2021. An Agency may not conduct or sponsor and a person is not required to respond to a collection of information unless it displays a current valid OMB control number.

DATES: Comments must be submitted on or before June 8, 2021.

ADDRESSES: Submit your comments, referencing Docket ID No. EPA-HQ-OARM-2018-0028 online using www.regulations.gov (our preferred method), or by mail to: EPA Docket Center, Environmental Protection Agency, Mail Code 28221T, 1200 Pennsylvania Ave. NW, Washington, DC 20460.

EPA's policy is that all comments received will be included in the public docket without change, including any personal information provided, unless the comment includes profanity, threats, information claimed to be Confidential Business Information (CBI) or other information whose disclosure is restricted by statute.

FOR FURTHER INFORMATION CONTACT: Pamela Leftrict, OAS/PTOD, 3803R, Environmental Protection Agency, 1200 Pennsylvania Ave. NW, Washington, DC 20460; telephone number: (202) 564-9463; fax number: N/A; email address: leftrict.pamela@epa.gov.

SUPPLEMENTARY INFORMATION:

Supporting documents which explain in detail the information that the EPA will be collecting are available in the public docket for this ICR. The docket can be viewed online at www.regulations.gov or in person at the EPA Docket Center, WJC West, Room 3334, 1301 Constitution Ave. NW, Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The collection of this information is required to ensure that the Agency can effectively identify, evaluate, and take appropriate action concerning contractor conflicts of interest (COI). Environmental Protection Agency (EPA) contractors are required to disclose any actual or potential COI with regard to their employees, corporate affiliations, and business relationships. Contractors will be required to maintain a database of business relationships and report information to EPA on either an annual basis or when work is ordered under an Agency contract. Additionally, under some contracts, the contractor must request written approval from the contracting officer to enter a proposed contract subject to the restrictions of EPA's Limitation of Future Contracting Clause that can found at CFR 48 1552.209-74.

Form Numbers: None.

Respondents/affected entities: All contractors seeking contract award that are identified with the potential conflict of interest upon contract award.

Respondent's obligation to respond: This obligation is mandatory in accordance with Federal Acquisition Regulation (FAR) subpart 9.5.

Estimated number of respondents: 56.

Frequency of response: Varies.

Total estimated burden: 68,933 hours annually. Burden is defined at 5 CFR 1320.03(b).

Total estimated cost: $4,996,497.08 (per year), includes $624,851.92 annualized capital or operation & maintenance costs.

Changes in Estimates: There is an increase of 12,878 hours in the total estimated respondent burden compared with the ICR currently approved by OMB. This increase is due to an increase in the number of Conflicts of Interest Plans required by the upsurge in acquisitions during the past three (3) years. In the previous filing, there were 45 required COI plans, but in the current filing there are 56 required COI plans.

Kimberly Patrick,
Director, Office of Acquisition Solutions.

[FR Doc. 2021-07331 Filed 4-8-21; 8:45 am]

BILLING CODE 6560-50-P